DEPARTMENT OF TRANSPORTATION

Maritime Administration

Voluntary Tanker Agreement Program; Notice of Public Meeting

AGENCY: Maritime Administration, Department of Transportation.

ACTION: Notice of public meeting.

SUMMARY: The Maritime Administration (MARAD) announces a public meeting for the purpose of developing the final text of the Voluntary Tanker Agreement (VTA). The public meeting will be held via teleconference and web conference. Teleconference and web conference access information will be provided once meeting participants register to attend as provided for in the FOR FURTHER INFORMATION CONTACT section below.

DATES: The public meeting via teleconference and web conference will take place on August 18, 2020 from 1:00 p.m. to 3:00 p.m. Eastern Daylight Time (EDT). Requests to participate must be received no later than 5:00 p.m. EDT on August 14, 2020. If you wish to speak during the meeting, you must submit a written copy of your remarks via email to rhonda.davis@dot.gov no later than August 14, 2020.

Attendees should register with MARAD by 12:00 p.m. on August 14, 2020 by providing their name, telephone number, email address, title, and organization to the person listed in the FOR FURTHER INFORMATION CONTACT section below. Requests for accommodations for a disability must be received by August 14, 2020.

ADDRESSES: The meeting will be held via teleconference and web conference. Access information will be provided upon registration.

FOR FURTHER INFORMATION CONTACT: William G. McDonald, Director, Office of Sealift Support, U.S. Department of Transportation, Maritime Administration, 1200 New Jersey Avenue SE, Washington, DC 20590. Office Telephone (202) 366-0688; Cell Phone (202) 570-0062, or william.g.mcdonald@dot.gov. Members of the public who wish to register, request accommodations for a disability, or speak during the teleconference, must contact Rhonda Davis at (202)-309-9775 or rhonda.davis@dot.gov, with their contact information and affiliations by the timelines in the DATES section above. Once the participant has registered, Ms. Davis will email the participant teleconference and web access information unless another form of MARAD response communication is requested at the time of registration (e.g. by telephone).

SUPPLEMENTARY INFORMATION:

I. Background

The Maritime Administration (MARAD) is developing a voluntary agreement necessary to renew the Voluntary Tanker Agreement Program, pursuant to the authority contained in Section 708 of the Defense Production Act of 1950 (DPA), as amended. Regulations governing Voluntary Tanker Agreements (VTAs) appear at 44 CFR part 332. The proposed agreement will revise and replace the VTA that was published in Volume 73 of the Federal Register at page 51692 (Sept. 4, 2008).

Because the proposed VTA will contain changes, both former and new participants must submit a new application once the final text is published. VTA applications are available from MARAD by contacting the persons listed in the FOR FURTHER INFORMATION CONTACT section above. The complete draft text of the proposed agreement was published in the Federal Register on November 1, 2019, 84 FR 58824-58829. Copies of the draft text are also available to the public upon request.

II. Agenda

The agenda will include: (1) Welcome, opening remarks, and introductions; (2) brief remarks by the Associate Administrator for Strategic Sealift or Director, Office of Sealift Support; (3) administrative items; (4) review of public docket comments; (5) oral participation from the public; and (6) closing remarks.

III. Public Participation

The meeting will be open to the public.

Public Comments: The public comment period at the meeting will commence at approximately 1:30 p.m. on August 18, 2020. To provide time for as many people to speak as possible, speaking time for each individual will be limited to five minutes. Speakers will be placed on the agenda in the order in which the notifications are received. If time allows, additional speakers will be permitted. Persons wishing to speak during public meeting should refer to the DATES section, above.

Written comments: Written comments should be submitted via email by August 14, 2020. See FOR FURTHER INFORMATION CONTACT section above. Also, MARAD is extending the period for the submission of written comments established in its Federal Register notice of November 1, 2019 (84 FR 58824) from December 2, 2019 to August 14, 2020. Comments submitted after the August 14, 2020 will be accepted as is practical. Written comments submitted after the meeting may be submitted as follows:

• Federal eRulemaking Portal: Go to http://regulations.gov. Search MARAD-2019-0183 and follow the instructions for submitting comments.

• Mail: The Docket Management Facility is in the West Building, Ground Floor of the U.S. Department of Transportation. The Docket Management Facility address is: U.S. Department of Transportation, MARAD-2019-0183, 1200 New Jersey Avenue SE, West Building, Room W12-140, Washington, DC 20590. Facility hours are 9:00 a.m. to 5:00 p.m., Monday through Friday, except on Federal holidays.

Services for Individuals with Disabilities: The U.S. Department of Transportation is committed to providing equal access to this teleconference for all participants. If you need alternative formats or services because of a disability, such as sign language, interpretation, or other ancillary aids, please contact Rhonda Davis at rhonda.davis@dot.gov.

(Authority: 50 U.S.C. 4558, 49 CFR 1.93(l), 44 CFR 332)

Dated: July 22, 2020.
By Order of the Maritime Administrator.
T. Mitchell Hudson, Jr.,
Secretary, Maritime Administration.

[FR Doc. 2020-16235 Filed 7-24-20; 8:45 am]

BILLING CODE 4910-81-P